NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 1, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Permit Application No. 2011-005.

George Waters, Director, U.S. AMLR Program, Southwest Fisheries Science Center, National Marine Fisheries Service, 8604 La Jolla Shores Drive, La Jolla, CA 92038.

Activity for Which Permit is Requested

Take, Enter Antarctic Specially Protected Areas, and Import into the USA. This notice amends the notice published in the Federal Register on July 21, 2010 for George Waters to include the installation of four snow-measurement gauges at Cape Shirreff (ASPA #149) and four at Copacabana, Admiralty Bay (ASPA #128). Each gauge will be constructed with a single metal rod, 1.5 to 2.5m in length, and >2.5cm in diameter, that will be driven into the ground to a depth of circa 0.5m. The gauges would be installed at four locations at each site, in the vicinity of seabird colonies or seal rookeries. The applicant recognizes that ultrasonic snow-depth sensing equipment is available, however positioning such devices near seabird and pinniped colonies would require additional towers/power supplies that are currently unavailable at these field sites. To take this step would be more intrusive to the sites, as it would require not only more gear, but more setup and installation effort (aka disturbance) near the animals. The low-tech solution is preferable, and more reliable over time.

Location

Cape Shirreff, Livingston Island (ASPA #149) and Copacabana field camp at Admiralty Bay, King George Island (ASPA # 128).

Dates

October 1, 2010 to July 31, 2011.

Nadene G. Kennedy,
Permit Officer, Office of Polar Programs.

[FR Doc. 2010-21788 Filed 8-26-10; 8:45 am]

BILLING CODE P